DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) #Depth in feet above ground Modified | Communities affected
Polk County, North Carolina and Incorporated Areas
Docket No.: FEMA-D-7802
Bear Creek | At the confluence with North Pacolet River | +1,395 | Unincorporated Areas of Polk County.
| Approximately 870 feet upstream of Charleston Harbor Drive | +1,564
Big Fall Creek | At the confluence with North Pacolet River | +1,102 | Unincorporated Areas of Polk County.
| Approximately 1,270 feet upstream of railroad | +1,682
Brights Creek | At the confluence with Green River | +922 | Unincorporated Areas of Polk County.
| Approximately 700 feet upstream of the confluence of Rash Creek | +937
Britten Creek | At the confluence with Green River | +838 | Unincorporated Areas of Polk County.
| Approximately 170 feet upstream of Lake Adger Road (State Road 1138) | +1,108
Broad River | On the upstream side of Poors Ford Road (State Road 1004) | +732 | Unincorporated Areas of Polk County.
| Approximately 0.6 mile upstream of the confluence of Green River | +739
Collinsville Creek | At the confluence with Hughes Creek | +858 | Unincorporated Areas of Polk County.
| Approximately 1.1 miles upstream of Landrum Road (State Road 1520) | +996
Collinsville Creek Tributary 4 | At the confluence with Collinsville Creek | +962 | Unincorporated Areas of Polk County.
| Approximately 0.5 mile upstream of the confluence with Collinsville Creek | +982
Green River | At the confluence with Broad River | +736 | Unincorporated Areas of Polk County.
| At the Polk/Henderson County boundary | +1,442
Green River Tributary 17 | At the confluence with Green River | +784 | Unincorporated Areas of Polk County.
| Approximately 0.5 mile upstream of the confluence with Green River | +798
Green River Tributary 29 | At the confluence with Green River | +810 | Unincorporated Areas of Polk County.
| Approximately 0.6 mile upstream of the confluence with Green River | +868
Green River Tributary 30 | At the confluence with Green River | +817 | Unincorporated Areas of Polk County.
| Approximately 0.8 mile upstream of the confluence with Green River | +839
Green River Tributary 36 | At the confluence with Green River | +835 | Unincorporated Areas of Polk County.
| Approximately 0.4 mile upstream of the confluence with Green River | +854
Green River Tributary 38 | At the confluence with Green River | +844 | Unincorporated Areas of Polk County.
| Approximately 1,220 feet upstream of Katydid Lane | +856
Green River Tributary of Tributary 30 | At the confluence with Green River Tributary 30 | +817 | Unincorporated Areas of Polk County.
| Approximately 0.4 mile upstream of the confluence with Green River Tributary 30 | +844
Greens Creek | At the confluence with White Oak Creek | +745 | Unincorporated Areas of Polk County.
| Approximately 350 feet upstream of East Green Creek Drive (State Road 1340) | +772
Hensons Creek | At the Rutherford/Polk County boundary | +823 | Unincorporated Areas of Polk County.
| Approximately 60 feet upstream of the Polk/Rutherford County boundary | +824
Hooper Creek | Approximately 500 feet downstream of the most downstream North Carolina/South Carolina State boundary | +811 | Unincorporated Areas of Polk County.
| Approximately 320 feet upstream of Henderson Road (State Road 1525) | +1,034
Horse Creek | At the confluence with North Pacolet River | +879 | Unincorporated Areas of Polk County, Town of Columbus.
| Approximately 70 feet downstream of Three Bridges Drive | +2,594
Hughes Creek | At the North Carolina/South Carolina State boundary | +803 | Unincorporated Areas of Polk County.
| Approximately 270 feet upstream of Landrum Road (State Road 1520) | +894
Joels Creek | At the confluence with North Pacolet River | +1,675 | Unincorporated Areas of Polk County, City of Saluda.
| Approximately 0.7 mile upstream of Pearson Falls Road (State Road 1102) | +1,891
Little Creek (into North Pacolet River) | At the confluence with North Pacolet River | +893 | Unincorporated Areas of Polk County, Town of Tryon.
| Approximately 300 feet upstream of North Trade Street | +1,005
Little Creek (into Vaughn Creek) | At the confluence with Vaughn Creek | +972 | Town of Tryon.
| Approximately 1,020 feet upstream of Jervey Road | +1,022
Little White Oak Creek | At the confluence with White Oak Creek | +838 | Unincorporated Areas of Polk County.
| Approximately 550 feet upstream of NC Highway 9 | +974
Machine Creek | At the confluence with White Oak Creek | +827 | Unincorporated Areas of Polk County.
| Approximately 500 feet upstream of U.S. Highway 74 | +848
Mill Creek (into White Oak Creek) | At the confluence with White Oak Creek | +755 | Unincorporated Areas of Polk County.
| Approximately, 1,250 feet upstream of Coxe Road (State Road 1005) | +756
North Pacolet River | At the North Carolina/South Carolina State boundary | +837 | Unincorporated Areas of Polk County, Town of Tryon.
| Approximately 0.5 mile upstream of the confluence of Joels Creek | +1,761
North Pacolet River Tributary 18 | At the confluence with North Pacolet River | +917 | Unincorporated Areas of Polk County.
| Approximately 120 feet downstream of Howard Gap Road (State Road 1122) | +924
North Pacolet River Tributary 20 | At the confluence with North Pacolet River | +935 | Unincorporated Areas of Polk County.
| Approximately 300 feet upstream of Baker Road (State Road 1124) | +948
Ostin Creek | At the confluence with Green River | +919 | Unincorporated Areas of Polk County.
| Approximately 200 feet upstream of Cow Crossing Lane | +1,022
Rash Creek | At the confluence with Brights Creek | +935 | Unincorporated Areas of Polk County.
| Approximately 750 feet upstream of the confluence with Brights Creek | +938
South Branch Little White Oak Creek | At the confluence with Little White Oak Creek | +876 | Unincorporated Areas of Polk County.
| Approximately 2.3 miles upstream of NC Highway 9 | +926
Vaughn Creek | At the confluence with North Pacolet River | +889 | Unincorporated Areas of Polk County, Town of Tryon.
| Approximately 630 feet upstream of the confluence of Little Creek (into Vaughn Creek) | +989
Vaughn Creek Tributary 1 | At the confluence with Vaughn Creek | +904 | Town of Tryon.
| Approximately 0.8 mile upstream of Vaughn Street | +973
Vaughn Creek Tributary 2 | At the confluence with Vaughn Creek | +972 | Town of Tryon.
| Approximately 850 feet upstream of Jervey Road | +997
Walnut Creek | At the confluence with Green River | +802 | Unincorporated Areas of Polk County.
| Approximately 60 feet upstream of NC Highway 9 | +1,058
Wheat Creek | At the confluence with Green River | +768 | Unincorporated Areas of Polk County.
| Approximately 500 feet upstream of Ponder Road (State Road 1329) | +817
White Oak Creek | At the confluence with Green River | +743 | Unincorporated Areas of Polk County.
| Approximately 40 feet downstream of Smith Dairy Road (State Road 1528) | +902
Wolfe Creek | At the confluence with North Pacolet River | +842 | Unincorporated Areas of Polk County.
| Approximately 460 feet upstream of Interstate Highway 26 | +877
* National Geodetic Vertical Datum.
# Depth in feet above ground.
+ North American Vertical Datum.
ADDRESSES
City of Saluda
Maps are available for inspection at Saluda City Hall, 6 East Main Street, Saluda, North Carolina.
Town of Columbus
Maps are available for inspection at Columbus Town Hall, 95 Walker Street, Columbus, North Carolina.
Town of Tryon
Maps are available for inspection at Tryon City Hall, 301 North Trade Street, Tryon, North Carolina.
Unincorporated Areas of Polk County
Maps are available for inspection at the Polk County Planning Department, 40 Courthouse Street, Columbus, North Carolina.
Stanly County, North Carolina and Incorporated Areas
Docket Nos.: FEMA-D-7816 and FEMA-B-7733
Big Bear Creek | At the confluence with Long Creek | +295 | Unincorporated Areas of Stanly County.
| Approximately 1,350 feet upstream of State Highway 49 | +645
Big Bear Creek Tributary 1 | At the confluence with Big Bear Creek | +369 | Unincorporated Areas of Stanly County.
| Approximately 0.5 mile upstream of the confluence with Big Bear Creek | +384
Big Bear Creek Tributary 2 | At the confluence with Big Bear Creek | +395 | Unincorporated Areas of Stanly County.
| Approximately 0.6 mile upstream of the confluence with Big Bear Creek | +426
Big Bear Creek Tributary 3 | At the confluence with Big Bear Creek | +441 | Unincorporated Areas of Stanly County.
| Approximately 710 feet upstream of Peaceful Lane | +483
Big Bear Creek Tributary 4 | At the confluence with Big Bear Creek | +580 | Unincorporated Areas of Stanly County.
| Approximately 1.0 mile upstream of Ridenhour Road (State Road 1433) | +606
Big Cedar Creek | At the confluence with Rocky River | +227 | Unincorporated Areas of Stanly County.
| Approximately 1,240 feet upstream of West Whitley Street (State Road 1933) | +283
Big Cedar Creek Tributary 1 | At the confluence with Big Cedar Creek | +229 | Unincorporated Areas of Stanly County.
| Approximately 0.4 mile upstream of the confluence with Big Cedar Creek | +241
Camp Branch | At the confluence with Rocky River | +449 | Unincorporated Areas of Stanly County.
| Approximately 60 feet downstream of Tite Road (State Road 1152) | +455
Cedar Creek | At the confluence with Pee Dee River (Lake Tillery) | +279 | Unincorporated Areas of Stanly County, Town of Norwood.
| Approximately 0.6 mile upstream of Railroad | +422
Coldwater Branch | At the confluence with Rocky River | +327 | Unincorporated Areas of Stanly County.
| Approximately 340 feet upstream of Old Sandbar Road (State Road 1100) | +330
Coopers Creek | At the confluence with Rocky River | +254 | Unincorporated Areas of Stanly County.
| Approximately 1.1 miles upstream of Old Davis Road (State Road 1943) | +328
Curl Tail Creek | At the confluence with Riles Creek | +572 | Unincorporated Areas of Stanly County, Town of Richfield, Village of Misenheimer.
| Approximately 510 feet downstream of Merner Terrace | +655
East Prong Rock Hole Creek | At the confluence with Rock Hole Creek | +488 | Unincorporated Areas of Stanly County, Town of Stanfield.
| Approximately 0.5 mile upstream of West Stanly Street | +569
Hardy Creek | At the confluence with Rocky River | +240 | Unincorporated Areas of Stanly County.
| Approximately 150 feet upstream of the confluence of Ugly Creek | +383
Island Creek | At the confluence with Rocky River | +354 | Unincorporated Areas of Stanly County, City of Locust.
| Approximately 1.1 miles upstream of Pless Mill Road (State Road 1136) | +537
Island Creek Tributary 1 | At the confluence with Island Creek | +368 | Unincorporated Areas of Stanly County.
| Approximately 520 feet downstream of Drye-Hill Road (State Road 1120) | +412
Island Creek Tributary 2 | At the confluence with Island Creek | +388 | Unincorporated Areas of Stanly County.
| Approximately 0.4 mile upstream of the confluence with Island Creek | +412
Jacks Branch | At the confluence with Rocky River | +252 | Unincorporated Areas of Stanly County.
| Approximately 1.1 miles upstream of the confluence with Rocky River | +281
Jacobs Creek | At the confluence with Pee Dee River (Lake Tillery) | +279 | Unincorporated Areas of Stanly County, City of Albemarle.
| Approximately 2.5 miles upstream of Indian Mound Road (State Road 1740) | +379
Little Bear Creek (North) | At the confluence with Big Bear Creek | +470 | Unincorporated Areas of Stanly County.
| Approximately 450 feet upstream of NC 73 Highway | +523
Little Bear Creek (South) | At the confluence with Long Creek | +334 | Unincorporated Areas of Stanly County.
| Approximately 1.7 miles upstream of Canton Road (State Road 1249) | +524
Little Bear Creek (South) Tributary 1 | At the confluence with Little Bear Creek (South) | +417 | Unincorporated Areas of Stanly County.
| Approximately 600 feet upstream of NC 24-27 Highway | +443
Little Bear Creek (South) Tributary 2 | At the confluence with Little Bear Creek (South) | +452 | Unincorporated Areas of Stanly County.
| Approximately 1,170 feet upstream of Canton Road (State Road 1249) | +510
Little Cedar Creek | At the confluence with Rocky River | +226 | Unincorporated Areas of Stanly County, Town of Norwood.
| Approximately 0.4 mile upstream of U.S. Highway 52 | +266
Little Creek (North) | At the confluence with Big Bear Creek | +444 | Unincorporated Areas of Stanly County.
| Approximately 1,220 feet upstream of Old Concord Road (State Road 1236) | +551
Little Creek (South) | At the confluence with Long Creek | +302 | Unincorporated Areas of Stanly County.
| Approximately 900 feet upstream of Western Road (State Road 1959) | +425
Little Long Creek | Approximately 450 feet downstream of Efird Street | +429 | Unincorporated Areas of Stanly County, City of Albemarle, Town of New London.
| Approximately 1,480 feet upstream of Railroad | +569
Little Meadow Creek | Approximately 1.1 miles downstream of State Highway 200 | +551 | City of Locust.
| Approximately 1,200 feet downstream of Mauney Road (State Road 2625) | +581
Little Mountain Creek | At the confluence with Mountain Creek | +384 | Unincorporated Areas of Stanly County, Town of Badin.
| Approximately 1.1 miles upstream of Barnhardt Road (State Road 1545) | +588
Long Creek | At the confluence with Rocky River | +284 | Unincorporated Areas of Stanly County, City of Albemarle, Town of Richfield, Village of Misenheimer.
| Approximately 0.7 mile upstream of Matton Grove Church Road (State Road 1454) | +637
Long Creek Tributary 1 | Approximately 500 feet upstream of the confluence with Long Creek | +484 | Unincorporated Areas of Stanly County.
| Approximately 1,170 feet upstream of Pennington Road (State Road 1401) | +509
Long Creek Tributary 2 | Approximately 1,500 feet upstream of the confluence with Long Creek | +485 | Unincorporated Areas of Stanly County.
| Approximately 0.9 mile upstream of the confluence with Long Creek | +508
Long Creek Tributary 3 | At the confluence with Long Creek | +530 | Unincorporated Areas of Stanly County.
| Approximately 650 feet downstream of Sunnybrook Road | +553
Meadow Creek | At the upstream side of Reed Mine Road (State Road 1100) | +495 | City of Locust.
| Approximately 0.9 mile upstream of Reed Mine Road (State Road 1100) | +511
Melchor Branch | At the confluence with Little Long Creek | +448 | City of Albemarle.
| Approximately 480 feet upstream of North Sixth Street | +486
Melchor Branch Tributary 1 | Just upstream of Fox Run Drive | +524 | City of Albemarle.
| Approximately 160 feet upstream of Montgomery Avenue | +557
Melchor Branch Tributary 1A | At the confluence with Melchor Branch Tributary 1 | +536 | City of Albemarle.
| Approximately 550 feet upstream of Montgomery Avenue | +554
Mountain Creek | At the confluence with Pee Dee River | +284 | Unincorporated Areas of Stanly County, City of Albemarle.
| Approximately 60 feet upstream of State Highway 740 | +708
Mountain Creek Tributary 1 | At the confluence with Mountain Creek | +377 | Unincorporated Areas of Stanly County.
| Approximately 300 feet upstream of Stony Hill Road (State Road 1729) | +407
Pee Dee River | At the Anson/Montgomery/Richmond/Stanly County boundary | +220 | Unincorporated Areas of Stanly County, Town of Norwood.
| At the confluence of Yadkin River and Uwharrie River | +287
Pee Dee River Tributary 6 | At the confluence with Pee Dee River | +229 | Unincorporated Areas of Stanly County.
| Approximately 150 feet upstream of Railroad | +264
Pole Bridge Creek | At the confluence with Little Bear Creek (North) | +477 | Unincorporated Areas of Stanly County.
| Approximately 0.7 mile upstream of Lambert Road (State Road 1231) | +570
Poplin Creek | At Aquadale Road | +429 | City of Albemarle.
| Approximately 630 feet upstream of Dr. Martin Luther King Jr. Drive | +501
Poplin Creek Tributary 1 | Approximately 250 feet upstream of the confluence with Poplin Creek | +428 | City of Albemarle.
| Approximately 300 feet upstream of East North Street | +483
Pumpkin Creek | At the confluence with Rocky River | +426 | Unincorporated Areas of Stanly County.
| Approximately 0.5 mile upstream of the confluence with Rocky River | +444
Ramsey Creek | At the confluence with Big Bear Creek | +369 | Unincorporated Areas of Stanly County.
| Approximately 1,270 feet upstream of Canton Road (State Road 1249) | +543
Riles Creek | Approximately 500 feet upstream of Rowan/Stanly County boundary | +572 | Unincorporated Areas of Stanly County, Town of Richfield.
| Approximately 1.3 miles upstream of Willie Road | +590
Rock Creek | At the upstream side of Rock Creek Park Drive | +430 | Unincorporated Areas of Stanly County, City of Albemarle.
| Approximately 1,000 feet upstream of Railroad | +446
Rock Hole Branch | At the confluence with Rock Hole Creek | +458 | Unincorporated Areas of Stanly County, Town of Stanfield.
| Approximately 2.3 miles upstream of the confluence with Rock Hole Creek | +544
Rock Hole Creek | At the confluence with Rocky River | +367 | Unincorporated Areas of Stanly County, Town of Stanfield.
| Approximately 480 feet upstream of Polk Ford Road | +489
Rocky River | At the confluence with Pee Dee River | +220 | Unincorporated Areas of Stanly County.
| Approximately 0.8 mile upstream of the confluence of Muddy Creek | +481
Rocky River Tributary 1 | At the confluence with Rocky River | +220 | Unincorporated Areas of Stanly County.
| Approximately 0.8 mile upstream of the confluence with Rocky River | +245
Rocky River Tributary 3 | At the confluence with Rocky River | +237 | Unincorporated Areas of Stanly County.
| Approximately 710 feet upstream of Loop Road (State Road 1982) | +248
Rocky River Tributary 8 | At the confluence with Rocky River | +350 | Unincorporated Areas of Stanly County.
| Approximately 0.5 mile upstream of the confluence with Rocky River | +364
Running Creek | At the confluence with Big Bear Creek | +467 | Unincorporated Areas of Stanly County.
| Approximately 0.8 mile upstream of Five Point Road (State Road 1206) | +540
Scaly Bark Creek | At the confluence with Long Creek | +384 | Unincorporated Areas of Stanly County.
| Approximately 0.9 mile upstream of St. Martin Road (State Road 1963) | +416
South Ugly Creek | At the confluence with Hardy Creek | +268 | Unincorporated Areas of Stanly County.
| Approximately 1.1 miles upstream of the confluence with Hardy Creek | +311
Stony Run | At the confluence with Big Bear Creek | +339 | Unincorporated Areas of Stanly County, Town of Oakboro, Town of Red Cross.
| Approximately 140 feet upstream of Running Creek Church Road (State Road 1134) | +636
Stony Run Tributary 1 | At the confluence with Stony Run | +445 | Unincorporated Areas of Stanly County.
| Approximately 1,120 feet upstream of Liberty Hill Church Road (State Road 1115) | +469
Town Creek | At the confluence with Little Long Creek | +448 | Unincorporated Areas of Stanly County, City of Albemarle, Town of New London.
| Approximately 1,890 feet upstream of Henderson Road (State Road 1436) | +530
Town Creek Tributary 1 | At the confluence with Town Creek | +516 | Unincorporated Areas of Stanly County.
| Approximately 1,060 feet upstream of Burris-Burleson Road (State Road 1437) | +546
Ugly Creek | At the confluence with Hardy Creek | +380 | Unincorporated Areas of Stanly County.
| Approximately 1,200 feet upstream of South Stanly School Road (State Road 1922) | +407
Yadkin River | At the confluence with Pee Dee River and Uwharrie River | +287 | Unincorporated Areas of Stanly County, Town of Badin.
| Approximately 500 feet downstream of State Highway 49/8 | +566
* National Geodetic Vertical Datum.
# Depth in feet above ground.
+ North American Vertical Datum.
ADDRESSES
City of Albemarle
Maps are available for inspection at City of Albemarle Engineering Department, 157 North Second Street, Albemarle, North Carolina.
City of Locust
Maps are available for inspection at Locust City Hall, 211 Town Centre, Locust, North Carolina.
Town of Badin
Maps are available for inspection at Badin Town Hall, 36 Falls Road, Badin, North Carolina.
Town of Norwood
Maps are available for inspection at Norwood Town Hall, Zoning Department, 116 South Main Street, Norwood, North Carolina.
Town of Oakboro
Maps are available for inspection at Oakboro Town Hall, 109A North Main Street, Oakboro, North Carolina.
Town of Red Cross
Maps are available for inspection at Red Cross Town Clerk's Residence, 680 West Red Cross Road, Oakboro, North Carolina.
Town of Richfield
Maps are available for inspection at Richfield Town Hall, 138 Highway 49 North, Richfield, North Carolina.
Town of Stanfield
Maps are available for inspection at Stanfield Town Hall, 203 West Stanly Street, Stanfield, North Carolina.
Unincorporated Areas of Stanly County
Maps are available for inspection at Stanly County Planning and Zoning Department, 1000 North First Street, Albemarle, North Carolina.
Village of Misenheimer
Maps are available for inspection at Misenheimer Town Hall, 48384 U.S. Highway 52 North, Misenheimer, North Carolina.
Unicoi County, Tennessee, and Incorporated Areas
Docket No.: FEMA-B-7731
Nolichucky River | Approximately 1,400 feet downstream of the confluence of South Indian Creek | +1638 | City of Erwin, Unincorporated Areas of Unicoi County.
| Approximately 2,280 feet upstream of the Chestoa Pike Bridge | +1690
North Indian Creek | Approximately 1,170 feet downstream of the Interstate 26 Bridge | +1832 | Town of Unicoi, Unincorporated Areas of Unicoi County.
| Approximately 100 feet downstream of the confluence of Scioto Creek | +1920
South Indian Creek | Approximately 440 feet upstream of the confluence with Nolichucky River | +1641 | Unincorporated Areas of Unicoi County, City of Erwin.
| Approximately 290 feet upstream of the Sandy Bottom Road Bridge | +1680
* National Geodetic Vertical Datum.
# Depth in feet above ground.
+ North American Vertical Datum.
ADDRESSES
City of Erwin
Maps are available for inspection at Erwin Town Hall, 211 North Main Avenue, Erwin, TN 37650.
Town of Unicoi
Maps are available for inspection at Unicoi Town Hall, 3600 Unicoi Drive, Unicoi, TN 37692.
Unincorporated Areas of Unicoi County
Maps are available for inspection at Post Office Box 169, Erwin, TN 37650-0169.

(Catalog of Federal Domestic Assistance No. 97.022, “Flood Insurance.”)

Dated: March 17, 2008.
David I. Maurstad,
Federal Insurance Administrator of the National Flood Insurance Program, Department of Homeland Security, Federal Emergency Management Agency.

[FR Doc. E8-6909 Filed 4-2-08; 8:45 am]

BILLING CODE 9110-12-P